DEPARTMENT OF TRANSPORTATION

National Highway Traffic Safety Administration

49 CFR Part 571

[Docket No. NHTSA-2025-0032]

RIN 2127-AM84

Federal Motor Vehicle Safety Standard No. 204; Steering Control Rearward Displacement

AGENCY: National Highway Traffic Safety Administration (NHTSA), Department of Transportation (DOT).

ACTION: Notice of proposed rulemaking.

SUMMARY: NHTSA is proposing to amend Federal Motor Vehicle Safety Standard No. 204, Steering Control Rearward Displacement, so that it no longer applies to vehicles that are certified to the frontal barrier crash protection requirements of Federal Motor Vehicle Safety Standard No. 208, Occupant Crash Protection.

DATES: Comments must be received within 60 days of May 30, 2025.

ADDRESSES: You may submit comments electronically to the docket identified in the heading of this document by visiting the Federal eRulemaking Portal at https://www.regulations.gov. Follow the online instructions for submitting comments.

Alternatively, you can file comments using the following methods:

• Mail: Docket Management Facility: U.S. Department of Transportation, 1200 New Jersey Avenue SE, West Building Ground Floor, Room W12-140, Washington, DC 20590-0001.

• Hand Delivery or Courier: West Building Ground Floor, Room W12-140, 1200 New Jersey Avenue SE, between 9 a.m. and 5 p.m. ET, Monday through Friday, except Federal holidays. To be sure someone is there to help you, please call (202) 366-9826 before coming.

• Fax: (202) 493-2251.

Regardless of how you submit your comments, you should mention the docket number identified in the heading of this document.

Instructions: All submissions must include the agency name and docket number or Regulatory Information Number (RIN) for this rulemaking. For detailed instructions on submitting comments and additional information on the rulemaking process, see the Public Participation heading of the Supplementary Information section of this document. Note that all comments received will be posted without change to https://www.regulations.gov, including any personal information provided. Please see the Privacy Act heading below.

Docket: For access to the docket to read background documents or comments received, go to https://www.regulations.gov. You may also access the docket at 1200 New Jersey Avenue SE, West Building, Room W12-140, Washington, DC 20590, between 9 a.m. and 5 p.m., Monday through Friday, except Federal Holidays. Telephone: 202-366-9826.

Confidential Business Information: If you claim that any of the information in your comment (including any additional documents or attachments) constitutes confidential business information within the meaning of 5 U.S.C. 552(b)(4) or is protected from disclosure pursuant to 18 U.S.C. 1905, please see the detailed instructions given under the Public Participation heading of the Supplementary Information section of this document.

Privacy Act: Please see the Privacy Act heading under the Regulatory Analyses section of this document.

FOR FURTHER INFORMATION CONTACT: For technical issues, you may contact Garry Brock at garry.brock@dot.gov. For legal issues, you may contact John Piazza at John.Piazza@dot.gov. You can reach these officials by phone at 202-366-1810. Address: National Highway Traffic Safety Administration, U.S. Department of Transportation, 1200 New Jersey Avenue SE, West Building, Washington, DC 20590.

SUPPLEMENTARY INFORMATION: NHTSA is proposing to amend Federal Motor Vehicle Safety Standard (FMVSS) No. 204, Steering Control Rearward Displacement. This safety standard specifies requirements that limit the rearward displacement of the steering column in a frontal crash. We propose to exclude vehicles from having to comply with FMVSS No. 204 if they are certified to the frontal barrier crash protection requirements of FMVSS No. 208. We seek comment on all aspects of this proposal.

FMVSS No. 204 specifies requirements that limit the rearward motion of the steering column in a frontal crash. The standard currently applies to passenger vehicles, trucks, and buses (except for walk-in vans or vehicles without steering controls). Vehicles are subjected to a 30 mile per hour frontal barrier crash test. The upper end of the steering column and shaft cannot be displaced more than 5 inches (127 mm) horizontally as a result of the crash test.

FMVSS No. 204 is one of the original safety standards that went into effect on January 1, 1968 (23 FR 2408). Motion of the steering column, and specifically motion of a collapsable steering column (or energy absorbing steering column), were analyzed with FMVSS No. 204 being used in conjunction with FMVSS No. 203, Impact protection for the driver from the steering control system. These two standards were developed to minimize head, neck and chest injuries to the vehicle driver as a result of an impact.

In the time since the promulgation of FMVSS No. 204, significant advances have been made to the crashworthiness of motor vehicles. These include the development and use of air bags and advanced restraint systems. These standards also predate the use of Anthropomorphic Test Devices (ATDs, or crash test dummies) within the FMVSS to assess vehicle performance. After FMVSS No. 203 was updated on November 29, 1979 (44 FR 68475), it no longer applied to vehicles that complied with the frontal barrier crash requirements of FMVSS Standard No. 208. This exclusion was warranted because the requirements of FMVSS No. 203 could prevent the potential future development of air bag systems. However, FMVSS No. 204 has not been similarly edited since its promulgation.

On November 15, 1995, NHTSA published an NPRM proposing to exclude from compliance with FMSSS No. 204 passenger cars and other light vehicles certified to the frontal barrier crash test requirements of FMVSS No. 208 by means of an air bag. The basis for the 1995 NPRM was the belief that auto manufacturers would take into account the need for a stable platform for their air bag when designing a restraint system. A designer of an air bag equipped vehicle must know the relative location of the air bag and the protected occupant when setting up the design. Performance of the air bag could be adversely affected should the air bag move up, down, rearwards or forwards during a crash event. Given that the air bag is located at the end of the steering column, it was expected that the performance of the air bag would ensure sufficient consideration of the location of the end of the steering column. NHTSA also stated the belief that manufacturers take care to ensure that air bags are not too close to vehicle occupants due to the potential for injury caused by an air bag deploying too close to a person.

In response to the 1995 NPRM, six total comments were received. Four commenters, the insurance institute for highway safety (IIHS), the American Automobile Manufacturers Association (AAMA), Volkswagen and Mitsubishi supported the proposal. Two commenters, the Advocates for Highway and Auto Safety and Mr. Lee F. Graser (a crash reconstructionist) both opposed the proposal. Mr. Graser opposed to update to FMVSS No. 204 on the basis of the success of FMVSS No. 204 in aiding occupant safety. The Advocates for Highway and Auto Safety expressed concern that smaller occupants sit closer to the air bag, and motion of the air bag towards these occupants could create a greater risk of injury. The Advocates for Highway and Auto Safety also argued that there was no supporting data for excluding vehicles from FMVSS No. 204 or the basis for concluding that manufacturers will continue prevent steering column displacement.

IIHS provided comments that they supported the change to FMVSS No. 204. However, they also provided additional information with regards to small overlap collisions, noting that excessive motion of the steering wheel had been seen in small overlap collisions. IIHS noted that this may lead to an increased injury risk or unusual occupant kinematics. IIHS noted that steering column intrusion does occur in some crash types, and they urged NHTSA to promote research to determine the types of testing which best reveal the issue of steering column movement in vehicle collisions.

On July 20, 1998, NHTSA terminated the rulemaking that would exclude certain vehicles from compliance with FMVSS No. 204 (63 FR 38799). At the time of the termination of rulemaking, NHTSA noted that FMVSS No. 208 had allowed for manufacturers to utilize sled testing for testing of depowered air bags, in place of an unbelted frontal crash test. The capability of the steering column is not tested in a sled test. Accordingly, without testing under FMVSS No. 204, there would be no method for determining the effect of any motion of the steering column. For these reasons, NHTSA ended the rulemaking and did not proceed with finalizing the change to FMVSS No. 204. NHTSA stated that, if circumstances change in the future, it would consider appropriate action.

On July 28, 2004, Honda petitioned NHTSA to update FMVSS No. 204 to allow FMVSS No. 208 to take its place. Honda noted that the advanced air bag requirements in FMVSS No. 208 would be applied to all light vehicles beginning September 1, 2006, and that sled testing would not be allowed. NHTSA denied this petition on March 20, 2006, citing two reasons. First, the test speeds for unbelted testing under FMVSS No. 208 was lower than the test speeds in FMVSS No. 204. Second, the petition did not provide data to support that FMVSS No. 208 could be used to assess extensive contact of movement of the steering controls in a frontal barrier test.

NHTSA has received additional comments in response to various notices with requests for re-evaluation of FMVSS No. 204 since denying the Honda petition.¹ Further, additional data has been developed and updates to FMVSS No. 208 have been made since NHTSA denied Honda's 2004 petition. A study was conducted by George Mason University using finite element modelling to examine the motion of the steering column during a frontal barrier crash test.² This simulation study examined situations wherein the steering column motion was close to failing to meet FMVSS No. 204's performance requirement and found such failing closely correlated with failing to meet FMVSS No. 208's performance requirements due to chest deflections.³ The study concluded that based on this observation, a vehicle with steering column displacement not in compliance with FMVSS No. 204, would therefore also not comply with FMVSS No. 208.

¹ On December 1, 2017, Global Automakers (DOT-OST-2017-0069-2772) and Hyundai America Technical Center, Inc. (DOT-OST-2017-0069-2769) submitted comments to the Department of Transportation Notice of Regulatory Review (DOT-OST-2017-0069). On May 29, 2020, the Alliance for Automotive Innovation commented on an NPRM for Automated driving systems (NHTSA Docket No. 2020-0014, 85 FR 17624) regarding the status FMVSS 204.

² Reichert R., Kan, C., Park, C., “Measuring Steering Column Motion in Frontal Rigid-Barrier Test,” July 2021, DOT HS 812 094, https://rosap.ntl.bts.gov/gsearch?collection=dot%3A40796&terms=DOT+HS+813+094.

³ The performance requirement is that the upper end of the steering column and shaft cannot be displaced more than 5 inches (127 mm) as a result of the crash test.

The reasons NHTSA gave in 1998 for terminating that rulemaking appear to no longer be valid due to updates to the tests conducted in FMVSS No. 208 and the results of additional vehicle safety research. Commenters to the 1995 NPRM noted concerns with occupants sitting too close to the air bag. However, FMVSS No. 208 currently specifies unbelted frontal barrier testing with both the Hybrid III 50th percentile male and Hybrid III 5th percentile female dummies. The tests with the 5th percentile female dummy in the driver's seating position are conducted with the seat in full forward position, creating a test scenario with a smaller occupant sitting close to an air bag. With regards to comments regarding steering column motion in a small overlap crash scenario, FMVSS No. 208 includes an offset deformable barrier crash tests with the Hybrid III 5th percentile female crash test dummy in the driver's seat in full forward position as part of FMVSS No. 208. In the denial of Honda's rulemaking petition, NHTSA noted that the speed of the unbelted testing was lower than FMVSS No. 204. Currently the speed utilized for the FMVSS No. 208 unbelted testing is up to 25 mph; however unbelted testing with the Hybrid III 50th percentile male dummy can be conducted at any angle up to 30 degrees from perpendicular. Additionally, the crash tests with belted driver and outboard front passengers are conducted at 35 mph, which is at a higher speed and 26.5 percent higher crash energy than the current 30 mph crash test in FMVSS No. 204. The combination of the angled tests with unbelted dummies and the higher speed tests with belted dummies may represent a more severe collision scenario with respect to steering column deformation. Moreover, the finite element modeling study suggests that a vehicle with steering column displacement not in compliance with FMVSS No. 204 would also not comply with FMVSS No. 208.

NHTSA believes that the reasoning in the 1995 NPRM still holds true—that one of the most fundamental engineering considerations manufacturers take into account in designing an air bag equipped vehicle is to provide a secure platform for the airbag. This belief, combined with the finite element modeling study demonstrating that noncompliance with FMVSS No. 204 would likely also result in noncompliance with FMVSS No. 208 and the strengthening of the FMVSS No. 208 testing, leads NHTSA to a tentative conclusion that compliance with FMVSS No. 204 is no longer necessary for vehicles subject to FMVSS No. 208 frontal barrier crash testing. In other words, NHTSA tentatively believes that the testing in FMVSS No. 208 is sufficient to ensure limited steering column motion and aid in occupant protection.

Authority: 49 U.S.C. 322, 30111, 30115, 30117, 30166; delegation of authority at 49 CFR 1.95.

Regulatory Analyses

Executive Orders 12866 and 13563

This proposed rule does not meet the criteria of a “significant regulatory action” under Executive Order 12866, as amended by Executive Orders 14215 and 13563. Therefore, the Office of Management and Budget (OMB) has not reviewed this proposed rule under those orders. This NPRM, if finalized as proposed, is also expected to be an E.O. 14192 deregulatory action.

Promoting International Regulatory Cooperation

The policy statement in section 1 of Executive Order 13609 provides that the regulatory approaches taken by foreign governments may differ from those taken by the United States to address similar issues, and that in some cases the differences between them might not be necessary and might impair the ability of American businesses to export and compete internationally. It further recognizes that in meeting shared challenges involving health, safety, and other issues, international regulatory cooperation can identify approaches that are at least as protective as those that are or would be adopted in the absence of such cooperation and can reduce, eliminate, or prevent unnecessary differences in regulatory requirements.

In addition, section 24211 of the Infrastructure, Investment, and Jobs Act, Global Harmonization, provides that DOT “shall cooperate, to the maximum extent practicable, with foreign governments, nongovernmental stakeholder groups, the motor vehicle industry, and consumer groups with respect to global harmonization of vehicle regulations as a means for improving motor vehicle safety.” ⁴

⁴ H.R. 3684 (117th Congress) (2021).

While NHTSA is aware that some foreign regulations specify requirements similar to those it is proposing for removal, NHTSA has tentatively concluded that because the proposed change removes a superfluous requirement it does not create any incompatibilities with any foreign regulations.

Initial Regulatory Flexibility Act

Under the Regulatory Flexibility Act (RFA) (5 U.S.C. 601-612) (as amended by the Small Business Regulatory Enforcement Fairness Act (SBREFA) of 1996; 5 U.S.C. 601 et seq.), agencies must prepare and make available for public comment a regulatory flexibility analysis that describes the effect of the rulemaking on small entities (i.e., small businesses, small organizations, and small government jurisdictions). No regulatory flexibility analysis is required, however, if the head of an agency or an appropriate designee certifies that the rulemaking will not have a significant economic impact on a substantial number of small entities. NHTSA has concluded and hereby certifies that this proposed rule will not have a significant economic impact on a substantial number of small entities; therefore, an analysis is not included. This proposed rule will only remove directives that are no longer needed.

Unfunded Mandates Reform Act

This proposed rule does not contain Federal mandates (under the regulatory provisions of Title II of the UMRA) for State, local and Tribal governments, or the private sector of $100 million or more in any one year. Thus, the rulemaking is not subject to the requirements of sections 202 and 205 of the UMRA.

Executive Order 13175

Executive Order 13175 requires Federal agencies to consult and coordinate with Tribes on a government-to-government basis on policies that have Tribal implications, including regulations, legislative comments or proposed legislation, and other policy statements or actions that have substantial direct effects on one or more Indian Tribes, on the relationship between the Federal Government and Indian Tribes, or on the distribution of power and responsibilities between the Federal Government and Indian Tribes. NHTSA has assessed the impact of this proposed rule on Indian tribes and determined that this rulemaking would not have tribal implications that require consultation under Executive Order 13175.

Paperwork Reduction Act

In accordance with the Paperwork Reduction Act of 1995 (44 U.S.C. 3501-3520), an agency may not conduct or sponsor, and a person is not required to respond to, a collection of information, unless the collection displays a currently valid Office of Management and Budget (OMB) control number. This proposed rule is deregulatory and so would not impose any additional information collection requirements.

E-Government Act Compliance

NHTSA is committed to complying with the E-Government Act, 2002 to promote the use of the internet and other information technologies to provide increased opportunities for citizen access to Government information and services, and for other purposes.

Executive Order 13132; Federalism Summary Impact Statement

NHTSA has examined this proposed rule pursuant to Executive Order 13132 (64 FR 43255; Aug. 10, 1999) and concluded that no additional consultation with States, local governments, or their representatives is mandated beyond the rulemaking process. The agency has concluded that the proposed rule does not have sufficient federalism implications to warrant consultation with State and local officials or the preparation of a federalism summary impact statement. The proposed rule does not have “substantial direct effects on the States, on the relationship between the national government and the States, or on the distribution of power and responsibilities among the various levels of government.”

NHTSA rules can have preemptive effect in two ways. First, the National Traffic and Motor Vehicle Safety Act contains an express preemption provision: When a motor vehicle safety standard is in effect under this chapter, a State or a political subdivision of a State may prescribe or continue in effect a standard applicable to the same aspect of performance of a motor vehicle or motor vehicle equipment only if the standard is identical to the standard prescribed under this chapter. 49 U.S.C. 30103(b)(1). It is this statutory command by Congress that preempts any non-identical State legislative and administrative law address the same aspect of performance.

The express preemption provision described above is subject to a savings clause under which “[c]compliance with a motor vehicle safety standard prescribed under this chapter does not exempt a person from liability at common law.” 49 U.S.C. 30103(e). Pursuant to this provision, State common law tort causes of action against motor vehicle manufacturers that might otherwise be preempted by the express preemption provision are generally preserved. However, the Supreme Court has recognized the possibility, in some instances, of implied preemption of State common law tort causes of action by virtue of NHTSA's rules—even if not expressly preempted.

This second way that NHTSA rules can preempt is dependent upon the existence of an actual conflict between an FMVSS and the higher standard that would effectively be imposed on motor vehicle manufacturers if someone obtained a State common law tort judgment against the manufacturer—notwithstanding the manufacturer's compliance with the NHTSA standard. Because most NHTSA standards established by an FMVSS are minimum standards, a State common law tort cause of action that seeks to impose a higher standard on motor vehicle manufacturers will generally not be preempted. However, if and when such a conflict does exist—for example, when the standard at issue is both a minimum and a maximum standard—the State common law tort cause of action is impliedly preempted. See Geier v. American Honda Motor Co., 529 U.S. 861 (2000).

Pursuant to Executive Order 13132, NHTSA has considered whether this proposed rule could or should preempt State common law causes of action. The agency's ability to announce its conclusion regarding the preemptive effect of one of its rules reduces the likelihood that preemption will be an issue in any subsequent tort litigation.

To this end, the agency has examined the nature (e.g., the language and structure of the regulatory text) and objectives of this proposed rule and does not foresee any potential State requirements that might conflict with it. NHTSA does not intend that this proposed rule preempt state tort law that would effectively impose a higher standard on motor vehicle manufacturers than that established by this proposed rule. Establishment of a higher standard by means of State tort law would not conflict with the standards proposed in this NPRM. Without any conflict, there could not be any implied preemption of a State common law tort cause of action.

National Environmental Policy Act

NHTSA believes this proposed rule, if finalized, would not have a reasonably foreseeable significant effect on the quality of the human environment. The public is invited to comment on the impact of the proposed agency action.

Executive Order 12988 (Civil Justice Reform)

With respect to the review of the promulgation of a new regulation, section 3(b) of Executive Order 12988, “Civil Justice Reform” (61 FR 4729, February 7, 1996) requires that Executive agencies make every reasonable effort to ensure that the regulation: (1) Clearly specifies the preemptive effect; (2) clearly specifies the effect on existing Federal law or regulation; (3) provides a clear legal standard for affected conduct, while promoting simplification and burden reduction; (4) clearly specifies the retroactive effect, if any; (5) adequately defines key terms; and (6) addresses other important issues affecting clarity and general draftsmanship under any guidelines issued by the Attorney General. This document is consistent with that requirement.

Pursuant to this Order, NHTSA notes as follows. The issue of preemption is discussed above in connection with E.O. 13132. NHTSA notes further that there is no requirement that individuals submit a petition for reconsideration or pursue other administrative proceeding before they may file suit in court.

National Technology Transfer and Advancement Act

Under the National Technology Transfer and Advancement Act of 1995 (NTTAA) (Pub. L. 104-113), “all Federal agencies and departments shall use technical standards that are developed or adopted by voluntary consensus standards bodies, using such technical standards as a means to carry out policy objectives or activities determined by the agencies and departments.” Voluntary consensus standards are technical standards (e.g., materials specifications, test methods, sampling procedures, and business practices) that are developed or adopted by voluntary consensus standards bodies, such as SAE (formerly, the Society of Automotive Engineers). The NTTAA directs this agency to provide Congress, through OMB, explanations when the agency decides not to use available and applicable voluntary consensus standards.

There are no consensus standards available with regards to the motion of the steering column in a barrier test.

Plain Language

Executive Order 12866 and E.O. 13563 require each agency to write all rules in plain language. Application of the principles of plain language includes consideration of the following questions:

• Have we organized the material to suit the public's needs?

• Are the requirements in the rule clearly stated?

• Does the rule contain technical language or jargon that isn't clear?

• Would a different format (grouping and order of sections, use of headings, paragraphing) make the rule easier to understand?

• Would more (but shorter) sections be better?

• Could we improve clarity by adding tables, lists, or diagrams?

• What else could we do to make the rule easier to understand?

If you have any responses to these questions, please include them in your comments on this proposal.

Regulation Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

Privacy Act

In accordance with 5 U.S.C. 553(c), DOT solicits comments from the public to better inform its rulemaking process. DOT posts these comments, without edit, to www.regulations.gov, as described in the system of records notice, DOT/ALL-14 FDMS, accessible through www.dot.gov/privacy. In order to facilitate comment tracking and response, we encourage commenters to provide their name, or the name of their organization; however, submission of names is completely optional. Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78).

Rule Summary

As required by 5 U.S.C. 553(b)(4), a summary of this proposed rule can be found at regulations.gov, Docket NHTSA-2025-0032, in the SUMMARY section of this proposed rule.

Public Participation

How do I prepare and submit comments?

Your comments must be written and in English. To ensure that your comments are correctly filed in the Docket, please include the docket number indicated in this document in your comments.

Your comments must not be more than 15 pages long. (49 CFR 553.21). We established this limit to encourage you to write your primary comments in a concise fashion. However, you may attach necessary additional documents to your comments. There is no limit on the length of the attachments.

If you are submitting comments electronically as a PDF (Adobe) file, NHTSA asks that the documents be submitted using the Optical Character Recognition (OCR) process, thus allowing NHTSA to search and copy certain portions of your submissions.

Please note that pursuant to the Data Quality Act, in order for substantive data to be relied upon and used by the agency, it must meet the information quality standards set forth in the OMB and DOT Data Quality Act guidelines. Accordingly, we encourage you to consult the guidelines in preparing your comments. OMB's guidelines may be accessed at https://www.transportation.gov/regulations/dot-information-dissemination-quality-guidelines.

How can I be sure that my comments were received?

If you wish the Docket to notify you upon its receipt of your comments, enclose a self-addressed, stamped postcard in the envelope containing your comments. Upon receiving your comments, the Docket will return the postcard by mail.

How do I submit confidential business information?

You should submit a redacted “public version” of your comment (including redacted versions of any additional documents or attachments) to the docket using any of the methods identified under ADDRESSES. This “public version” of your comment should contain only the portions for which no claim of confidential treatment is made and from which those portions for which confidential treatment is claimed has been redacted. See below for further instructions on how to do this.

You also need to submit a request for confidential treatment directly to the Office of Chief Counsel. Requests for confidential treatment are governed by 49 CFR part 512. Your request must set forth the information specified in part 512. This includes the materials for which confidentiality is being requested (as explained in more detail below); supporting information, pursuant to § 512.8; and a certificate, pursuant to § 512.4(b) and part 512, appendix A.

You are required to submit to the Office of Chief Counsel one unredacted “confidential version” of the information for which you are seeking confidential treatment. Pursuant to § 512.6, the words “ENTIRE PAGE CONFIDENTIAL BUSINESS INFORMATION” or “CONFIDENTIAL BUSINESS INFORMATION CONTAINED WITHIN BRACKETS” (as applicable) must appear at the top of each page containing information claimed to be confidential. In the latter situation, where not all information on the page is claimed to be confidential, identify each item of information for which confidentiality is requested within brackets: “[ ].”

You are also required to submit to the Office of Chief Counsel one redacted “public version” of the information for which you are seeking confidential treatment. Pursuant to § 512.5(a)(2), the redacted “public version” should include redactions of any information for which you are seeking confidential treatment (i.e., the only information that should be unredacted is information for which you are not seeking confidential treatment).

NHTSA is currently treating electronic submission as an acceptable method for submitting confidential business information to the agency under part 512. Please do not send a hardcopy of a request for confidential treatment to NHTSA's headquarters. The request should be sent to Dan Rabinovitz in the Office of the Chief Counsel at Daniel.Rabinovitz@dot.gov. You may either submit your request via email or request a secure file transfer link. If you are submitting the request via email, please also email a courtesy copy of the request to John Piazza at john.piazza@dot.gov.

Will the agency consider late comments?

We will consider all comments received before the close of business on the comment closing date indicated above under DATES. To the extent possible, we will also consider comments that the docket receives after that date. If the docket receives a comment too late for us to consider in developing a final rule (assuming that one is issued), we will consider that comment as an informal suggestion for future rulemaking action.

How can I read the comments submitted by other people?

You may read the comments received by the docket at the address given above under ADDRESSES. The hours of the docket are indicated above in the same location. You may also see the comments on the internet. To read the comments on the internet, go to https://www.regulations.gov. Follow the online instructions for accessing the dockets.

Please note that even after the comment closing date, we will continue to file relevant information in the docket as it becomes available. Further, some people may submit late comments. Accordingly, we recommend that you periodically check the Docket for new material. You can arrange with the docket to be notified when others file comments in the docket. See www.regulations.gov for more information.

List of Subjects in 49 CFR Part 571

Motor Vehicle Safety, Motor Vehicles.

For the reasons set forth above, NHTSA proposes to amend 49 CFR part 571 as follows:

PART 571—FEDERAL MOTOR VEHICLE SAFETY STANDARDS

1. The authority citation for part 571 continues to read as follows:

Authority: 49 U.S.C. 322, 30111, 30115, 30117, and 30166; delegation of authority at 49 CFR 1.95.

Subpart B—Federal Motor Vehicle Safety Standards

2. Amend § 571.204 by revising paragraph S2 to read as follows:

§ 571.204 Standard No. 204; Steering control rearward displacement.

* * * * *

S2. Application. This standard applies to passenger cars and to multipurpose passenger vehicles, trucks, and buses. However, it does not apply to vehicles certified to S14 of Standard No. 208 (49 CFR 571.208). It also does not apply to walk-in vans or vehicles without steering controls.

* * * * *

Issued under authority delegated in 49 CFR 1.95, 501.4, and 501.5.
Peter Simshauser,
Chief Counsel.

[FR Doc. 2025-09738 Filed 5-27-25; 4:15 pm]

BILLING CODE 4910-59-P